ENVIRONMENTAL PROTECTION AGENCY

40 CFR Part 52

[EPA-R09-OAR-2012-0732; FRL-9739-5]

Approval of Air Quality Implementation Plans; California; Eastern Kern, Imperial, Placer, and Yolo-Solano; Prevention of Significant Deterioration

AGENCY: Environmental Protection Agency (EPA).

ACTION: Direct final rule.

SUMMARY: EPA is taking final action on revisions to the California State Implementation Plan (SIP) under the Clean Air Act (CAA or Act). EPA is approving four permitting rules submitted for the Eastern Kern Air Pollution Control District (EKAPCD), Imperial County Air Pollution Control District (ICAPCD), Placer County Air Pollution Control District (PCAPCD), and Yolo-Solano Air Quality Management District (YSAQMD) portions of the California SIP. The State of California is required under part C of title I of the Act to adopt and implement a SIP-approved Prevention of Significant Deterioration (PSD) permit program. We are revising the SIP to incorporate EKAPCD Rule 210.4—Prevention of Significant Deterioration, ICAPCD Rule 904—Prevention of Significant Deterioration (PSD) Permit Program, PCAPCD Rule 518—Prevention of Significant Deterioration (PSD) Permit Program, and YSAQMD Rule 3.24—Prevention of Significant Deterioration. The approval of these rules will establish a PSD permit program in each District for pre-construction review of certain new and modified major stationary sources in attainment or unclassifiable areas.

DATES: This rule is effective on February 8, 2013, and the incorporation by reference of certain publications listed in the rule is approved by the Director of the Federal Register as of February 8, 2013, unless EPA receives adverse comments by January 9, 2013. If adverse comments are received, EPA will publish a timely withdrawal in the Federal Register informing the public that this rule, or the relevant provisions of the rule, will not take effect.

ADDRESSES: Submit comments, identified by docket number EPA-R09-OAR-2012-0732, by one of the following methods:

1. Federal eRulemaking Portal: www.regulations.gov. Follow the on-line instructions.

2. Email: R9airpermits@epa.gov.

3. Mail or deliver: Gerardo Rios (Air-3), U.S. Environmental Protection Agency Region IX, 75 Hawthorne Street, San Francisco, CA 94105-3901.

Instructions: All comments received will be included in the public docket without change and may be made available online at www.regulations.gov, including any personal information provided, unless the comment includes Confidential Business Information (CBI) or other information whose disclosure is restricted by statute. Information that you consider CBI or otherwise protected should be clearly identified as such and should not be submitted through www.regulations.gov or email. The www.regulations.gov Web site is an “anonymous access” system, and EPA will not know your identity or contact information unless you provide it in the body of your comment. If you send email directly to EPA, your email address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section below.

FOR FURTHER INFORMATION CONTACT: Lisa Beckham, Permits Office (AIR-3), U.S. Environmental Protection Agency, Region IX, (415) 972-3811, beckham.lisa@epa.gov.

SUPPLEMENTARY INFORMATION: Throughout this document, “we,” “us” and “our” refer to EPA.

Table of Contents

I. The State's Submittal

A. What rules did the State submit?

B. Are there other versions of these rules?

C. What is the purpose of the submitted rules?

II. EPA's Evaluation

A. How is EPA evaluating these rules?

B. Do the rules meet the evaluation criteria?

C. Significant Impact Levels for PM2.5.

D. Transfer of Existing EPA-Issued PSD Permits

E. What action is EPA finalizing?

F. Why is EPA using a direct final rule?

III. EPA's Final Action

IV. Statutory and Executive Order Reviews

I. The State's Submittal

A. What rules did the State submit?

Table 1 lists the rules on which we are taking action along with the dates on which they were adopted or amended by the applicable local agency and submitted to EPA by the California Air Resources Board (CARB).

Table 1—Submitted Rules
Local agency | Rule No. | Rule title | Adopted | Submitted
EKAPCD | 210.4 | Prevention of Significant Deterioration | 1/12/2012 | 4/25/2012
ICAPCD | 904 | Prevention of Significant Deterioration (PSD) Permit Program | 12/20/2011 | 2/23/2012
PCAPCD | 518 | Prevention of Significant Deterioration (PSD) Permit Program | 2/10/2011 | 6/21/2011
YSAQMD | 3.24 | Prevention of Significant Deterioration | 6/13/2012 | 7/3/2012

The rule submittals were found to meet the completeness criteria in 40 CFR part 51 Appendix V, which must be met before formal EPA review.

B. Are there other versions of these rules?

There are no previous versions of these rules in the SIP. However, EKAPCD originally adopted EKAPCD Rule 210.4 on September 9, 1984 and amended it on November 18, 1985, and September 2, 1999. We are only taking action on the currently submitted version of each rule as listed in Table 1.

C. What is the purpose of the submitted rules?

Section 110(a) of the CAA requires states to adopt and submit regulations for the implementation, maintenance and enforcement of the primary and secondary national ambient air quality standards (NAAQS). Specifically, sections 110(a)(2)(C), 110(a)(2)(D)(i)(II), and 110(a)(2)(J) require such state plans to meet the applicable requirements of section 165 relating to a pre-construction permit program for the prevention of significant deterioration of air quality and visibility protection. The purpose of the rule submittals that are addressed in this action is to establish and implement a pre-construction PSD permit program as required by section 165 of the CAA for certain new and modified major stationary sources located in attainment areas. Because the State of California does not currently have a SIP-approved PSD program within EKAPCD, ICAPCD, PCAPCD, and YSAQMD (referred to hereinafter as the “Districts”), EPA is currently the PSD permitting authority for each District. Inclusion of these rules into the SIP transfers PSD permitting authority from EPA to the Districts. EPA will assume the role of overseeing the PSD permitting program within each District.

II. EPA's Evaluation

A. How is EPA evaluating these rules?

The relevant statutory provisions for our review of the submitted rules include CAA sections 110(a), 110(l), and 165 and part 51, section 166 of title 40 of the Code of Federal Regulations (40 CFR 51.166). Section 110(a) requires, among other things, that SIP rules be enforceable, while section 110(l) precludes EPA approval of SIP revisions that would interfere with any applicable requirements concerning attainment and reasonable further progress. Section 165 of the CAA requires states to adopt a pre-construction permitting program for certain new and modified major stationary sources located in attainment or unclassifiable areas. 40 CFR 51.166 establishes the specific requirements for SIP-approved PSD permit programs that must be met to satisfy the requirements of section 165 of the CAA.

B. Do the rules meet the evaluation criteria?

With some exclusions and revisions, EKAPCD Rule 210.4, ICAPCD Rule 904, PCAPCD Rule 518, and YSAQMD Rule 3.24 incorporate by reference EPA's PSD permit program at 40 CFR 52.21, as of January 12, 2012, December 20, 2011, February 10, 2011, and July 12, 2012, respectively. We generally consider EPA's PSD permit program to be consistent with the criteria in 40 CFR 51.166. However, we conducted a review of each rule to ensure that all requirements of 40 CFR 51.166 were met. Our evaluations are available as an attachment to the technical support document (TSD) for this rulemaking. We also reviewed the revisions the Districts made to the provisions of 40 CFR 52.21 that were incorporated by reference into each rule, such as revising certain terms and definitions to reflect the fact that the Districts, rather than the EPA, will be the PSD permitting authority. Based on our evaluation we have concluded each rule meets the requirements of 40 CFR 51.166 for a PSD program.

Specifically, EKAPCD Rule 210.4 makes significant revisions to the applicability procedures and definitions for major modification, actual emissions, baseline actual emission, and net emissions increase as incorporated by reference in 40 CFR 52.21(a)(2) and (b). EKAPCD Rule 210.4 also excludes the Actuals Plantwide Applicability Limits (PALs) provisions contained in 40 CFR 52.21(aa). These revisions are intended to implement a PSD program that does not contain the 2002 NSR Reform provisions (see generally 67 FR 80,185 (Dec. 31, 2002)). Based on our evaluation of Rule 210.4 and the EKAPCD's Staff Report, we have concluded that Rule 210.4 is at least as stringent, in all respects, as the requirements of 40 CFR 51.166 for a PSD program. A more detailed discussion of those revisions and our analysis are in the TSD for this rulemaking.

We note that three of the District rules under consideration in this action also rely on existing SIP-approved permit application processing requirements, which are found in EKAPCD Rule 210.1, ICAPCD Rule 206, and PCAPCD Rule 502, for meeting some of the PSD program requirements.

We also reviewed clarifying information provided by the Districts in letters dated July 19, 2012 (EKAPCD), July 10, 2012 (ICAPCD), July 6, 2012 (PCAPCD), and August 7, 2012 (YSAQMD). Based on our review of the Districts' rules as well as these clarification letters, we have determined that the Districts' PSD SIP rules are acceptable under CAA sections 110(a), 110(l) and 165 and 40 CFR 51.166. EPA's TSD for this rulemaking has more information about these rules, including our evaluation and recommendation to approve them into the SIP.

C. Significant Impact Levels for PM2.5

Eastern Kern Rule 210.4, Imperial Rule 904, and Placer Rule 518 incorporate by reference the PM2.5 significant impact levels (SILs) found in 40 CFR 52.21(k)(2). Yolo-Solano Rule 3.24 does not incorporate these PM2.5 SILs, by reference or otherwise. Consistent with 40 CFR 51.166(k)(2), these PM2.5 SILs are an optional portion of the PSD permitting program. However, EPA's authority to implement the PM2.5 SILs for PSD purposes is currently subject to litigation, Sierra Club v. EPA, Case No. 10-1413 (D.C. Circuit). As a result, EPA has come to recognize that the regulatory text it adopted in 40 CFR 51.166(k)(2) and 40 CFR 52.21(k)(2) does not accurately reflect EPA's intent, because the text does not afford permitting authorities sufficient discretion to deny sources use of the SILs where their use would lead to a new violation of the NAAQS or increment. In our response brief to the Court in this litigation, EPA requested that the Court remand and vacate 40 CFR 51.166(k)(2) and 40 CFR 52.21(k)(2) so that we may initiate a rulemaking to make revisions to the regulatory text.

Paragraph (k)(1) of 40 CFR section 52.21 requires that sources applying for a new PSD permit demonstrate that any allowable emission increases from the proposed source or modification, in conjunction with all other applicable emissions increases or reductions, will not cause or contribute to a violation of any NAAQS or any applicable increment. In the preamble to the 2010 final rule adding the (k)(2) provision to section 52.21, EPA advised that, “notwithstanding the existence of a SIL, permitting authorities should determine when it may be appropriate to conclude that even a de minimis impact will `cause or contribute' to an air quality problem and to seek remedial action from the proposed new source or modification.” Prevention of Significant Deterioration (PSD) for Particulate Matter Less than 2.5 Micrometers (PM2.5)—Increments, Significant Impact Levels (SILs) and Significant Monitoring Concentration (SMC), 75 FR 64,864, 64,892 (Oct. 20, 2010). In another passage of the preamble to the 2010 final rule, EPA also observed that “the use of a SIL may not be appropriate when a substantial portion of any NAAQS or increment is known to be consumed.” Id. at 64,894.

We requested clarification from EKAPCD, PCAPCD, and ICAPCD concerning their interpretation of their respective rules that incorporate by reference 40 CFR 52.21(k)(2). Consistent with the statements by EPA in the preamble to the 2010 final rule, EKAPCD, PCAPCD, and ICAPCD confirmed that they do not interpret section 52.21(k)(2) to preclude them from exercising the discretion to determine when it may be appropriate to conclude that even a de minimis impact on air quality (an impact below the PM2.5 SIL values) will cause or contribute to an air quality problem and to seek remedial action from the proposed new source or modification. See clarification letters from EKAPCD dated August 21, 2012, from ICAPCD dated August 21, 2012, and from PCAPCD dated August 20, 2012. Based on this interpretation, each of these Districts has clarified that it will not read section 52.21(k)(2) as an absolute “safe harbor,” but will exercise discretion to determine whether a particular application of the PM2.5 SILs is appropriate when a substantial portion of the PM2.5 NAAQS or increment is known to be consumed. These Districts have also clarified that they retain the discretion to require additional information from a permit applicant as needed to assure that the source will not cause or contribute to a violation of any NAAQS or applicable increment pursuant to section 52.21(k)(1).

Based on these clarifications provided by EKAPCD, PCAPCD, and ICAPCD, we find that these Districts' PSD rules are approvable and consistent with the Act and the requirements for a PSD program.

D. Transfer of Existing EPA-Issued PSD Permits

The Districts have also requested approval to exercise their authority, as applicable, to administer the PSD program with respect to those sources located in the Districts that have existing PSD permits issued by EPA. This would include authority to conduct general administration of these existing permits, authority to process and issue any and all subsequent PSD permit actions relating to such permits (e.g., modifications, amendments, or revisions of any nature), and authority to enforce such permits. Pursuant to the criteria under section 110(a)(2)(E)(i) of the CAA, we have determined that these districts have the authority, personnel, and funding to implement the PSD program within each District for existing EPA-issued permits. Upon the effective date of our approval of the Districts' PSD programs into the SIP, the EPA-issued PSD permits will be transferred to each District, as applicable. A list of these EPA-issued permits is provided as an attachment to the TSD for this action. In addition, any PSD permit applications submitted to EPA for which EPA has not yet proposed a permit decision upon the effective date of this action will also be transferred to the applicable District upon the effective date of this rule.

E. What action is EPA finalizing?

EPA is finalizing a SIP revision for the Eastern Kern, Imperial County, Placer County, and Yolo-Solano portions of the California SIP. This SIP revision will be codified in 40 CFR 52.220 by incorporating by reference the District PSD rules listed in Table 1. In addition, the letters from the Districts to EPA described elsewhere in this preamble that provide certain clarifications concerning the Districts' rules will be included as additional material in 40 CFR 52.220. The regulatory text addressing this action also makes it clear that EPA is relying, in part, on the clarifications provided in the Districts' clarification letters in taking this final approval action. As such, the Districts' implementation of the PSD program in a manner consistent with these clarifications is a pre-condition of today's final approval of this PSD SIP revision. This SIP revision provides a federally approved and enforceable mechanism for the District to issue pre-construction PSD permits for certain new and modified major stationary sources subject to PSD review within the Districts. The regulatory text at 40 CFR 52.270 will also be revised so that these Districts are no longer a part of California's Federal Implementation Plan for the PSD program.

F. Why is EPA using a direct final rule?

EPA is publishing this action without prior proposal because the Agency views this as a noncontroversial action and anticipates no adverse comments. As discussed above, this approval action will transfer PSD permitting program responsibility and authority from EPA to the Districts, which will generally continue to implement the PSD program consistent with 40 CFR section 52.21 as incorporated by reference into the Districts' rules. However, in the “Proposed Rules” section of this Federal Register publication, EPA is publishing a separate document that will serve as the proposal to approve this SIP revision should relevant adverse comments be filed on this direct final rule. We will not institute a second comment period on this action. Any parties interested in commenting must do so at this time. For further information about commenting on this rule, see the ADDRESSES section of this document.

This rule will be effective February 8, 2013 without further notice unless the Agency receives relevant adverse comments by January 9, 2013. If EPA receives such comments, then EPA will publish a timely withdrawal in the Federal Register informing the public that this direct final rule will not take effect. All public comments received would then be addressed in any subsequent final rule based on the proposed rule. Please note that if EPA receives adverse comment on a distinct provision of this rule and if that provision may be severed from the remainder of the rule, EPA may adopt as final those provisions of the rule that are not the subject of an adverse comment. In such case, EPA would publish a timely withdrawal in the Federal Register indicating which provisions we are withdrawing. The provisions that are not withdrawn will become effective on the date set out above, notwithstanding adverse comment on any other provision.

III. EPA's Final Action

EPA is approving the following CARB submittals into the California SIP to establish a PSD permit program for pre-construction review of certain new and modified major stationary sources in attainment or unclassifiable areas: CARB's 4/25/2012 submittal of EKAPCD Rule 210.4—Prevention of Significant Deterioration; CARB's 2/23/2012 submittal of ICAPCD Rule 904—Prevention of Significant Deterioration (PSD) Permit Program; CARB's 6/21/2011 submittal of PCAPCD Rule 518—Prevention of Significant Deterioration (PSD) Permit Program; and CARB's 7/3/2012 submittal of YSAQMD Rule 3.24—Prevention of Significant Deterioration.

IV. Statutory and Executive Order Reviews

Under the CAA, the Administrator is required to approve a SIP submission that complies with the provisions of the Act and applicable Federal regulations. 42 U.S.C. 7410(k). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because the SIP is not approved to apply in Indian country located in the State of California and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by February 8, 2013. Filing a petition for reconsideration by the Administrator of this final rule does not affect the finality of this action for the purposes of judicial review nor does it extend the time within which a petition for judicial review may be filed, and shall not postpone the effectiveness of such rule or action. This action may not be challenged later in proceedings to enforce its requirements. (See CAA section 307(b)(2).)

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Authority: 42 U.S.C. 7401 et seq.

Dated: September 25, 2012.
Jared Blumenfeld,
Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended as follows:

a. By revising the introductory text of paragraphs (c)(391) and (c)(411).

b. By adding new paragraphs (c)(391)(i)(C), (c)(391)(ii), (c)(411)(i)(E), (c)(411)(ii), (c)(419), and (c)(420).

§ 52.220 Identification of plan.

* * * * *

(c) * * *

(391) New and amended regulations were submitted on June 21, 2011 by the Governor's designee. Final approval of these regulations is based, in part, on the clarifications contained in letters dated July 6, 2012 and August 20, 2012 from the Placer County Air Pollution Control District regarding specific implementation of parts of the Prevention of Significant Deterioration program.

(i) * * *

(C) Placer County Air Pollution Control District.

(1) Rule 518, “Prevention of Significant Deterioration (PSD) Permit Program,” adopted on February 10, 2011.

(ii) Additional materials.

(A) Placer County Air Pollution Control District (PCAPCD).

(1) Letter dated July 6, 2012 from Thomas J. Christofk, PCAPCD, to Gerardo Rios, United States Environmental Protection Agency Region 9, regarding Clarifications of District Rule 518 and 40 CFR 51.166.

(2) Letter dated August 20, 2012 from Thomas Christofk, PCAPCD, to Gerardo Rios, United States Environmental Protection Agency Region 9, regarding Clarifications of District Rule 518 and 40 CFR 52.21(k)(2).

* * * * *

(411) New and amended regulations for the following APCDs were submitted on February 23, 2012. Final approval of these regulations is based, in part, on the clarifications contained in letters dated July 10, 2012 and August 21, 2012 from the Imperial County Air Pollution Control District regarding specific implementation of parts of the Prevention of Significant Deterioration program.

(i) * * *

(E) Imperial County Air Pollution Control District.

(1) Rule 904, “Prevention of Significant Deterioration (PSD) Permit Program,” revised on December 20, 2011.

(ii) Additional materials.

(A) Imperial County Air Pollution Control District (ICAPCD).

(1) Letter dated July 10, 2012 from Brad Poiriez, ICAPCD, to Gerardo Rios, United States Environmental Protection Agency Region 9, regarding Clarifications of District Rule 904 and 40 CFR 51.166.

(2) Letter dated August 21, 2012 from Brad Poiriez, ICAPCD, to Gerardo Rios, United States Environmental Protection Agency Region 9, regarding Clarifications of District Rule 904 and 40 CFR 52.21(k)(2).

* * * * *

(419) New and amended regulations for the following APCDs were submitted on April 25, 2012. Final approval of these regulations is based, in part, on the clarifications contained in letters dated July 19, 2012 and August 21, 2012 from the Eastern Kern Air Pollution Control District regarding specific implementation of parts of the Prevention of Significant Deterioration program.

(i) Incorporation by reference.

(A) Eastern Kern Air Pollution Control District.

(1) Rule 210.4, “Prevention of Significant Deterioration,” adopted on January 12, 2012.

(ii) Additional materials.

(A) Eastern Kern Air Pollution Control District (EKAPCD).

(1) Letter dated July 19, 2012 from David L. Jones, EKAPCD, to Gerardo Rios, United States Environmental Protection Agency Region 9, regarding Clarifications of District Rule 210.4 and 40 CFR 51.166.

(2) Letter dated August 21, 2012 from David L. Jones, EKAPCD, to Gerardo Rios, United States Environmental Protection Agency Region 9, regarding Clarifications of District Rule 210.4 and 40 CFR 52.21(k)(2).

(420) A new regulation for the following APCD was submitted on July 3, 2012. Final approval of this regulation is based, in part, on the clarifications contained in a letter dated August 7, 2012 from the Yolo-Solano Air Quality Management District regarding specific implementation of parts of the Prevention of Significant Deterioration program.

(i) Incorporation by reference.

(A) Yolo-Solano Air Quality Management District.

(1) Rule 3.24, “Prevention of Significant Deterioration,” adopted on June 13, 2012.

(ii) Additional materials.

(A) Yolo-Solano Air Quality Management District (YSAQMD).

(1) Letter dated August 7, 2012 from Mat Ehrhardt, YSAQMD, to Gerardo Rios, United States Environmental Protection Agency Region 9, regarding Clarifications of District Rule 210.4 and 40 CFR 51.166.

* * * * *

3. Section 52.270 is amended by adding new paragraphs (b)(6), (b)(7), (b)(8), and (b)(9) to read as follows:

§ 52.270 Significant deterioration of air quality.

* * * * *

(b) * * *

(6) The PSD program for the Placer County Air Pollution Control District (PCAPCD), as incorporated by reference in § 52.220(c)(391), is approved under part C, Subpart 1, of the Clean Air Act. For PSD permits previously issued by EPA pursuant to § 52.21 to sources located in the PCAPCD, this approval includes the authority for the PCAPCD to conduct general administration of these existing permits, authority to process and issue any and all subsequent permit actions relating to such permits, and authority to enforce such permits.

(7) The PSD program for the Imperial County Air Pollution Control District, as incorporated by reference in § 52.220(c)(411), is approved under part C, Subpart 1, of the Clean Air Act.

(8) The PSD program for the Eastern Kern Air Pollution Control District (EKAPCD), as incorporated by reference in § 52.220(c)(419), is approved under part C, Subpart 1, of the Clean Air Act. For PSD permits previously issued by EPA pursuant to § 52.21 to sources located in the EKAPCD, this approval includes the authority for the EKAPCD to conduct general administration of these existing permits, authority to process and issue any and all subsequent permit actions relating to such permits, and authority to enforce such permits.

(9) The PSD program for the Yolo-Solano Air Quality Management District, as incorporated by reference in § 52.220(c)(420), is approved under part C, Subpart 1, of the Clean Air Act.

* * * * *

[FR Doc. 2012-29535 Filed 12-7-12; 8:45 am]

BILLING CODE 6560-50-P